DEPARTMENT OF HEALTH AND HUMAN SERVICES

Public Health Service

National Toxicology Program (NTP); Notice of a Meeting of the NTP Board of Scientific Counselors; Correction

Please be advised that the Federal Register notice (68 FR, No. 165 pp. 51290-51292) published on August 26, 2003 had an errant “URL” in paragraph 5 on the “ICCEC Recommendations for Substances Nominated for Future NTP Studies”. The correct URL follows.

Information about substances nominated to the NTP for toxicology and carcinogenesis studies and the ICCEC's recommendations were published in the Federal Register on July 16, 2003 (Vol. 68, No. 136, p. 42068-71). This notice is available on the Web along with supporting documents for each nomination (http://ntp-server.niehs.nih.gov/NomPage/2003Noms.html), or by contacting the NTP Executive Secretary (Dr. Barbara Shane, NIEHS, P.O. Box 12233, MD A3-01, Research Triangle Park, NC 27709; telephone: 919-541-0530; and e-mail: shane@niehs.nih.gov).

Plans are underway for making this meeting available for viewing on the Internet at http://www.niehs.nih.gov/external/video.htm.

Dated: August 27, 2003.
Samuel Wilson,
Deputy Director, National Toxicology Program.

[FR Doc. 03-22833 Filed 9-8-03; 8:45 am]

BILLING CODE 4140-01-P